DEPARTMENT OF THE INTERIOR

National Park Service

Notice of Inventory Completion: U.S. Department of Agriculture, Forest Service, Lassen National Forest, Susanville, CA, and Phoebe A. Hearst Museum of Anthropology, University of California, Berkeley, Berkeley, CA

AGENCY: National Park Service, Interior.

ACTION: Notice.

Notice is here given in accordance with the Native American Graves Protection and Repatriation Act (NAGPRA), 25 U.S.C. 3003, of the completion of an inventory of human remains and associated funerary objects in the control of the U.S. Department of Agriculture, Forest Service, Lassen National Forest, Susanville, CA, and in the physical custody of the Phoebe A. Hearst Museum of Anthropology, University of California, Berkeley, Berkeley, CA. The human remains and associated funerary objects were removed from Tehama County, CA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Lassen National Forest professional staff in consultation with representatives of the Pit River Tribe, California; and Redding Rancheria, California.

In 1952 and 1953, human remains representing a minimum of 59 individuals were removed from Kingsley Cave (CA¯Teh¯1), Tehama County, CA. Kingsley Cave is a habitation site on an unmarked tributary of Mill Creek. The site was excavated by University of California, Berkeley staff under the direction of M.A. Baumhoff. No known individuals were identified. The 405 associated funerary objects are 1 shell ornament, 1 shell, 319 clamshell beads, 43 olivella shell beads, 1 stone bead, 5 pine nut beads, 2 glass beads, 7 stone projectile points and projectile point fragments, 3 stone scrapers, 1 pestle, 1 abalone shell, 3 bone tool fragments, 1 cordage fragment, 15 fragments of organic material, and 2 lots of animal bone.

Based on characteristics of the human remains and associated funerary objects, and the presence of two glass beads, the human remains are dated to the proto¯historic and historic periods, and to a lesser extent from the late prehistoric period.

In 1956, human remains representing a minimum of three individuals were removed from Payne Cave (CA¯Teh¯193), Tehama County, CA. The human remains were removed during authorized excavations by the University of California Archaeological Survey. No known individuals were identified. No associated funerary objects are present.

Based on characteristics of non¯funerary objects removed during the excavations, the human remains are dated to the proto¯historic and historic periods.

Based on physical characteristics of the human remains, manner of burial, and the nature of the associated funerary objects, the human remains are determined to be Native American. Ethnographic and historical accounts indicate that both caves are located in areas associated with the Yana people during the late prehistoric and historic periods. The present¯day descendents of the Yana people are the Pit River Tribe, California; and Redding Rancheria, California.

Officials of Lassen National Forest have determined that, pursuant to 25 U.S.C. 3001 (9¯10), the human remains described above represent the physical remains of at least 62 individuals of Native American ancestry. Officials of Lassen National Forest also have determined that, pursuant to 25 U.S.C. 3001 (3)(A), the 405 objects described above are reasonably believed to have been placed with or near individual human remains at the time of death or later as part of the death rite or ceremony. Lastly, officials of Lassen National Forest have determined that, pursuant to 25 U.S.C. 3001 (2), there is a relationship of shared group identity that can be reasonably traced between the Native American human remains and associated funerary objects and the Pit River Tribe, California; and Redding Rancheria, California.

Representatives of any other Indian tribe that believes itself to be culturally affiliated with the human remains and associated funerary objects should contact Laurie Tippin, Forest Supervisor, Lassen National Forest, Susanville, CA 96130, telephone (530) 257¯2151, before January 21, 2005. Repatriation of the human remains and associated funerary objects to the Pit River Tribe, California; and Redding Rancheria, California, may proceed after that date if no additional claimants come forward.

The Lassen National Forest is responsible for notifying the Pit River Tribe, California; and Redding Rancheria, California, that this notice has been published.

Dated: November 2, 2004
Sherry Hutt,
Manager, National NAGPRA Program.

[FR Doc. 04-28006 Filed 12-21-04; 8:45 am]

BILLING CODE 4312-50-S